DEPARTMENT OF AGRICULTURE

Animal and Plant Health Inspection Service

9 CFR Part 94

[Docket No. APHIS-2013-0061]

RIN 0579-AD96

Restrictions on the Importation of Fresh Pork and Pork Products From a Region in Mexico

AGENCY: Animal and Plant Health Inspection Service, USDA.

ACTION: Proposed rule; withdrawal.

SUMMARY: We are withdrawing a proposed rule that would have defined a low-risk classical swine fever region in Mexico from which we would have allowed the importation of fresh pork and pork products into the United States under certain conditions. We are taking this action after reopening our risk evaluation of the classical swine fever status of Mexico using updated information.

DATES: As of August 11, 2017, the proposed rule published on July 29, 2014, at 79 FR 43974, is withdrawn.

FOR FURTHER INFORMATION CONTACT: Dr. Chip Wells, Senior Staff Veterinarian, Regionalization Evaluation Services, National Import Export Services, VS, APHIS, USDA, 4700 River Road Unit 38, Riverdale, MD 20737-1231; Chip.J.Wells@aphis.usda.gov; (301) 851-3317.

SUPPLEMENTARY INFORMATION: On July 29, 2014, we published in the Federal Register (79 FR 43974-43980, Docket No. APHIS-2013-0061) a proposal ¹ to amend the regulations by recognizing a new Animal and Plant Health Inspection Service (APHIS)-defined low-risk classical swine fever (CSF) region that would consist of all Mexican States except the nine States we currently recognize as CSF-free and the State of Chiapas, which we did not propose to recognize as CSF-free or low risk. We proposed to allow imports of pork and pork products from the APHIS-defined Mexican CSF region into the United States under certain conditions. The proposed requirements were intended to ensure that the pork and pork products were derived from swine housed on farms that met strict biosanitary standards and were not subject to contamination by means of commingling with animals or animal products that did not meet our requirements.

¹ To view the proposed rule, supporting documents, and the comments we received, go to http://www.regulations.gov/#!docketDetail;D=APHIS-2013-0061.

We solicited comments concerning our proposal for 60 days ending September 29, 2014. We received 10 comments by that date. They were from producers' associations, the Government of Mexico, and individuals. The commenters addressed a number of issues, including the possible CSF risk posed by allowing such imports, our plans for implementing and enforcing the provisions of the proposed rule, and whether our requirements for imports from the proposed CSF low-risk region in Mexico were equivalent to those in place for the existing CSF low-risk region in the European Union.

In 2015, the World Organization for Animal Health recognized Mexico as CSF-free. The Government of Mexico then requested that APHIS suspend its rulemaking and instead continue evaluating Mexico for CSF status.

In response to that request, APHIS reopened its evaluation of the CSF status of Mexico, conducting a site visit in 2015. Findings from the resulting 2015 site visit report, along with updated surveillance data and information submitted by the Government of Mexico, led APHIS to determine that concerns identified in the earlier risk assessment that supported the July 2014 proposed rule had been addressed and that current conditions would support CSF-free recognition for all of Mexico.

Therefore, we are withdrawing the July 29, 2014, proposed rule referenced above.

Authority: 7 U.S.C. 450, 7701-7772, 7781-7786, and 8301-8317; 21 U.S.C. 136 and 136a; 31 U.S.C. 9701; 7 CFR 2.22, 2.80, and 371.4.

Done in Washington, DC, August 7, 2017.
Michael C. Gregoire,
Acting Administrator, Animal and Plant Health Inspection Service.

[FR Doc. 2017-16980 Filed 8-10-17; 8:45 am]

BILLING CODE 3410-34-P